DEPARTMENT OF COMMERCE

International Trade Administration

[C-570-955]

Certain Magnesia Carbon Bricks From the People's Republic of China: Preliminary Results of the Countervailing Duty Administrative Review; 2016

AGENCY: Enforcement and Compliance, International Trade Administration, Department of Commerce.

SUMMARY: The Department of Commerce (Commerce) preliminarily determines to rescind this administrative review as there is no evidence of any reviewable entries, shipments, or sales of certain magnesia carbon bricks (magnesia carbon bricks) from the People's Republic of China (China) to the United States during the January 1, 2016, through December 31, 2016, period of review (POR) by the companies subject to this review. Interested parties are invited to comment on these preliminary results.

DATES: Applicable: October 11, 2018.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On November 13, 2017, Commerce published in the Federal Register a notice of initiation of an administrative review of the countervailing duty order for five producers/exporters of magnesia carbon bricks from China for the POR.¹ Commerce exercised its discretion to toll all deadlines affected by the closure of the Federal Government from January 20 through January 22, 2018.² As a result, all deadlines in this segment of the proceeding have been extended by three days.

¹ See Initiation of Antidumping and Countervailing Duty Administrative Reviews, 82 FR 52268 (November 13, 2017) (Initiation Notice). The companies subject to this review are Fedmet Resources Corporation; Fengchi Imp. and Exp. Co., Ltd. of Haicheng City, Fengchi Mining Co., Ltd. of Haicheng City; Fengchi Refractories Co., of Haicheng City; and RHI Refractories Co., of Haicheng City.

² See Memorandum, “Deadlines Affected by the Shutdown of the Federal Government,” dated January 23, 2018.

Scope of the Order

The scope of the order includes certain chemically-bonded magnesia carbon bricks from China. A full description of the scope of the order is contained in the Preliminary Decision Memorandum, which is hereby adopted by this notice.³

³ See Memorandum, “Decision Memorandum for the Preliminary Results of the Administrative Review of the Countervailing Duty Order on Certain Magnesia Carbon Bricks from the People's Republic of China; 2016,” (dated concurrently with this notice) (Preliminary Determination Memorandum).

Methodology

Commerce is conducting this administrative review in accordance with section 751(a)(1)(A) of the Tariff Act of 1930, as amended (the Act). The Preliminary Decision Memorandum contains a full description of the methodology underlying our conclusions and is a public document on file electronically via Enforcement and Compliance's Antidumping and Countervailing Duty Centralized Electronic Service System (ACCESS). ACCESS is available to registered users at http://access.trade.gov and in the Central Records Unit, Room B8024 of the main Commerce building. In addition, a complete version of the Preliminary Decision Memorandum can be accessed directly at http://enforcement.trade.gov/frn. The signed Preliminary Decision Memorandum and the election version of this memorandum are identical in content.

Preliminary Intent To Rescind the Administrative Review

Based on information submitted after the initiation of this administrative review, and due to the fact that we have not received any information from U.S. Customs and Border Protection (CBP) indicating that the companies subject to this review had reviewable entries of subject merchandise to the United States during the POR, Commerce preliminarily determines that the record evidence indicates that no company subject to this review had reviewable entries during the POR.⁴ Should evidence arise that leads us to conclude that the companies subject to this review had reviewable entries of subject merchandise to the United States during the POR, we will revisit this issue in the final results of this administrative review. Absent any evidence of POR entries of subject merchandise being placed on the record, pursuant to 19 CFR 351.213(d)(3), we intend to rescind the administrative review of these companies in the final results.

⁴ Id.

Public Comment

Case briefs must be submitted to Enforcement and Compliance's Antidumping and Countervailing Duty Centralized Electronic Service System (ACCESS) at a date to be determined by Commerce, and rebuttal briefs, limited to issues raised in the case briefs, may be submitted no later than five days after the deadline for the submission for case briefs.⁵ Commerce will notify interested parties when it has determined a deadline for case briefs via ACCESS. Parties who submit case or rebuttal briefs in this proceeding are encouraged to submit with each argument: (1) A statement of the issue; (2) a brief summary of the argument; and (3) a table of authorities.⁶

⁵ See 19 CFR 351.309(c)(1)(ii) and 351.309(d)(1).

⁶ See 19 CFR 351.309(c)(2) and 351.309(d)(2).

Pursuant to 19 CFR 351.310(c), interested parties who wish to request a hearing must submit a written request to the Assistant Secretary for Enforcement and Compliance, U.S. Department of Commerce, filed electronically through ACCESS, within 30 days after the publication of this notice. Hearing requests should contain the party's name, address, telephone number, the number of participants, and a list of the issues parties intend to present at the hearing. If a request for a hearing is made, Commerce intends to hold the hearing at the U.S. Department of Commerce, 1401 Constitution Avenue NW, Washington, DC 20230, at a time to be determined. Prior to the hearing, Commerce will contact all parties who submitted case or rebuttal briefs to determine if they wish to participate in the hearing. Commerce will then distribute a hearing schedule to these parties prior to the hearing, and only those parties listed on the hearing schedule may present issues raised in their briefs.

All submissions, with limited exceptions, must be filed electronically using ACCESS.⁷ An electronically filed document must be received successfully in its entirety by ACCESS by 5:00 p.m. Eastern Time, on the due dates established above (or, where applicable, to be established by Commerce at a later date). Documents excepted from the electronic submission requirements must be filed manually, (i.e., in paper form) with the APO/Dockets Unit in Room 18022 and stamped with the date and time of receipt by on the due date.⁸

⁷ See 19 CFR 351.303.

⁸ Id.

Unless otherwise extended, Commerce intends to issue the final results of this administrative review, which will include the results of its analysis of issues raised in any briefs, within 120 days of the publication of these preliminary results or review, pursuant to section 751(a)(3)(A) of the Act.

Assessment Rates

We intend to issue appropriate assessment instructions to CBP 15 days after the publication of the final rescission (or, should we find that the companies subject to this review had reviewable entries of subject merchandise to the United States during the POR, the final results) of this administrative review.

These preliminary results of review are issued and published in accordance with sections 751(a)(1) and 777(i)(I) of the Act, and 19 CFR 351.213 and 351.221(b)(4).

Dated: October 3, 2018
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Preliminary Determination of No Shipments

V. Public Comment

VI. Recommendation

[FR Doc. 2018-22131 Filed 10-10-18; 8:45 am]

BILLING CODE 3510-DS-P